DEPARTMENT OF HEALTH AND HUMAN SERVICES

Centers for Disease Control and Prevention

[60Day-03-78]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

Delayed symptoms associated with the convalescent period of a dengue infection.—New—National Center for Infectious Diseases (NCID)—Centers for Disease Control and Prevention (CDC). Dengue is a vector-borne febrile disease of the tropics transmitted most often by the mosquito Aedes aegypti. Symptoms of the acute disease include fever, headache, rash, retro-orbital pain, myalgias, arthralgias, vomiting, abdominal pain and hemorrhagic manifestations.

Many symptoms are mentioned in the medical literature as associated with the convalescent period (three-eight weeks) after dengue infection, including depression, dementia, loss of sensation, paralysis of lower and upper extremities and larynx, epilepsy, tremors, manic psychosis, amnesia, loss of visual acuity, hair loss, and peeling of skin. No epidemiologic study has been conducted to define the timing, frequency, and risk factors for these symptoms. The objective of this study is to examine the incidence and characteristics of mental health disorders and other delayed complications associated with dengue infection and convalescence. The study will be conducted in Puerto Rico, where dengue is endemic and causes severe sporadic epidemics. Laboratory positive confirmed cases of dengue, laboratory negative suspected dengue cases, and neighborhood controls will be prospectively enrolled in the study. Person-to-person interviews with adults (age 18 years or greater), will be conducted and information will be collected regarding symptoms experienced during the convalescent phase of the infection. There are no costs to respondents.

Respondents | Number of respondents | Number of responses per respondent | Average burden per response (in hrs.) | Total burden (in hrs.)
Laboratory positive confirmed dengue | 200 | 2 | 60/60 | 400
Dengue negative control | 200 | 2 | 60/60 | 400
Neighborhood control | 200 | 2 | 60/60 | 400
Total |  |  |  | 1200

Dated: June 10, 2003.
Thomas A. Bartenfeld,
Acting Associate Director for Policy, Planning and Evaluation, Centers for Disease Control. and Prevention.

[FR Doc. 03-15214 Filed 6-16-03; 8:45 am]

BILLING CODE 4163-18-P